DEPARTMENT OF ENERGY

Federal Energy Regulatory Commission

Combined Notice of Filings #1

January 28, 2009.

Take notice that the Commission received the following electric corporate filings:

Docket Numbers: EC09-49-000.

Applicants: ESI California Holdings, Inc.; DTE Woodland LLC.

Description: Joint Application of ESI California Holdings, Inc. and DTE Woodland LLC for Authorization to Acquire Interests in an Electric Utility Company, Request for Confidential Treatment and Request for Expedited Notice and Action.

Filed Date: 01/23/2009.

Accession Number: 20090123-5061.

Comment Date: 5 p.m. Eastern Time on Friday, February 13, 2009.

Docket Numbers: EC09-50-000.

Applicants: Southern California Edison Company, Mountainview Power Company, LLC.

Description: Southern California Edison Company et al. requests approval for Moutainview Power Co., LLC to dispose of its Commission jurisdictional assets to SCE and to acquire and own Mountainview's assets directly etc.

Filed Date: 01/23/2009.

Accession Number: 20090127-0120.

Comment Date: 5 p.m. Eastern Time on Friday, February 13, 2009.

Take notice that the Commission received the following exempt wholesale generator filings:

Docket Numbers: EG09-25-000.

Applicants: EcoGrove Wind, LLC.

Description: Notice of Self-Certification of Exempt Wholesale Generator Status.

Filed Date: 01/23/2009.

Accession Number: 20090123-5042.

Comment Date: 5 p.m. Eastern Time on Friday, February 13, 2009.

Take notice that the Commission received the following electric rate filings:

Docket Numbers: ER94-1188-045; ER98-1279-016; ER98-4540-014; ER99-1623-014.

Applicants: LG&E Energy Marketing Inc., Louisville Gas & Electric Company, Kentucky Utilities Company, Western Kentucky Energy Corporation.

Description: LG&E Energy Marketing Inc., et al. submits a Response to the December 23, 2008 Data Request.

Filed Date: 01/26/2009.

Accession Number: 20090126-5023.

Comment Date: 5 p.m. Eastern Time on Tuesday, February 17, 2009.

Docket Numbers: ER99-2342-012.

Applicants: Tampa Electric Company.

Description: Tampa Electric Co. submits response to FERC's 12/23/08 request for additional information in connection with their 9/2/08 submission of updated market power analyses.

Filed Date: 01/16/2009.

Accession Number: 20090123-0195.

Comment Date: 5 p.m. Eastern Time on Friday, February 6, 2009.

Docket Numbers: ER99-2923-005.

Applicants: Phelps Dodge Energy Services, LLC.

Description: Phelps Dogde Energy Services, LLC submits Substitute Fourth Revised Sheet 1 etc. pursuant to Order 697.

Filed Date: 01/16/2009.

Accession Number: 20090126-0310.

Comment Date: 5 p.m. Eastern Time on Friday, February 6, 2009.

Docket Numbers: ER01-3001-022; ER03-647-013.

Applicants: New York Independent System Operator, Inc.

Description: Compliance Filing of New York Independent System Operator, Inc.

Filed Date: 01/15/2009.

Accession Number: 20090115-5038.

Comment Date: 5 p.m. Eastern Time on Thursday, February 5, 2009.

Docket Numbers: ER06-615-037.

Applicants: California Independent System Operator Corporation.

Description: California Independent System Operator Corp. submits the second annual report evaluating demand response.

Filed Date: 01/15/2009.

Accession Number: 20090121-0113.

Comment Date: 5 p.m. Eastern Time on Thursday, February 5, 2009.

Docket Numbers: ER06-615-040; ER07-475-006; ER07-869-005.

Applicants: California Independent System Operator Corporation.

Description: California Independent System Operator Corp. submits their compliance filing in compliance with FERC's 12/18/08 Order under ER07-869 et al.

Filed Date: 01/26/2009.

Accession Number: 20090126-0218.

Comment Date: 5 p.m. Eastern Time on Tuesday, February 17, 2009.

Docket Numbers: ER06-615-041.

Applicants: California Independent System Operator Corporation.

Description: California Independent System Operator Corp. submits interim Measures for Unscheduling in the Day-Ahead Market Compliance Filing in compliance with FERC's 12/19/08 Order.

Filed Date: 01/21/2009.

Accession Number: 20090126-0214.

Comment Date: 5 p.m. Eastern Time on Wednesday, February 11, 2009.

Docket Numbers: ER07-1014-002.

Applicants: NSTAR Electric Company.

Description: NSTAR Electric Company submits Update to Annual Information filing in compliance with the directives of the 6/2007 Order.

Filed Date: 01/14/2009.

Accession Number: 20090121-0123.

Comment Date: 5 p.m. Eastern Time on Wednesday, February 4, 2009.

Docket Numbers: ER07-1372-014.

Applicants: Midwest Independent Transmission System Operator, Inc.

Description: Midwest Independent Transmission System Operator, Inc. submits revisions to the Midwest ISO's Open Access Transmission, Energy and Operating Reserve Markets Tariff.

Filed Date: 01/22/2009.

Accession Number: 20090123-0383.

Comment Date: 5 p.m. Eastern Time on Thursday, February 12, 2009.

Docket Numbers: ER08-209-004.

Applicants: Midwest Independent Transmission System Operator, Inc.

Description: Midwest Independent Transmission System Operator, Inc. submits a revised unexecuted Large Generator Interconnection Agreement with Prairie State Generating Co., LLC et al.

Filed Date: 01/21/2009.

Accession Number: 20090122-0081.

Comment Date: 5 p.m. Eastern Time on Wednesday, February 11, 2009.

Docket Numbers: ER08-283-002.

Applicants: New York Independent System Operator, Inc.

Description: Compliance Filing of the New York Independent System Operator, Inc.

Filed Date: 01/21/2009.

Accession Number: 20090121-5244.

Comment Date: 5 p.m. Eastern Time on Wednesday, February 11, 2009.

Docket Numbers: ER08-585-001.

Applicants: California Independent System Operator Corporation.

Description: California Independent System Operator Corp's revisions to its Market Redesign and Technology Upgrade of the CAISO's open access transmission tariff relating to Grid Management Charge in compliance w/FERC's 12/19/08 Order.

Filed Date: 01/21/2009.

Accession Number: 20090126-0213.

Comment Date: 5 p.m. Eastern Time on Wednesday, February 11, 2009.

Docket Numbers: ER08-844-001.

Applicants: Entergy Services, Inc.

Description: Entergy Mississippi, Inc. submits an amendment to their instant filing submitted on 4/18/08.

Filed Date: 01/22/2009.

Accession Number: 20090126-0217.

Comment Date: 5 p.m. Eastern Time on Thursday, February 12, 2009.

Docket Numbers: ER08-1055-003.

Applicants: Midwest Independent Transmission System Operator, Inc.

Description: Midwest Independent Transmission System Operator, Inc. submits revisions to the CRSG Operating Protocols to comply with the Commission's directives in the 12/18 Order.

Filed Date: 01/22/2009.

Accession Number: 20090123-0385.

Comment Date: 5 p.m. Eastern Time on Thursday, February 12, 2009.

Docket Numbers: ER08-1225-001; ER08-1111-001; ER08-1226-001.

Applicants: Cloud County Wind Farm, LLC; Pioneer Prairie Wind Farm I, LLC; Arlington Wind Power Project LLC.

Description: Notice of Non-Material Change in Status for Arlington Wind Power Project LLC, et al.

Filed Date: 01/27/2009.

Accession Number: 20090127-5092.

Comment Date: 5 p.m. Eastern Time on Tuesday, February 17, 2009.

Docket Numbers: ER08-1256-002.

Applicants: Midwest Independent Transmission System Operator, Inc.

Description: Midwest Independent Transmission System Operator, Inc. submits proposed revisions to their Open Access Transmission, Energy and Operating Reserve Markets Tariff.

Filed Date: 01/22/2009.

Accession Number: 20090126-0219.

Comment Date: 5 p.m. Eastern Time on Thursday, February 12, 2009.

Docket Numbers: ER08-1297-002; ER02-2559-009; ER01-1071-013; ER08-1293-002; ER08-1294-002; ER06-9-008; ER05-1281-008; ER03-34-012; ER02-1903-010; ER06-1261-007; ER03-1104-009; ER03-1105-009; ER08-197-006; ER07-904-004; ER98-3566-018; ER98-4222-014; ER08-250-003; ER07-1157-004; ER07-174-007; ER08-1296-002; ER07-875-003; ER08-1300-002.

Applicants: Ashtabula Wind, LLC; Backbone Mountain Windpower, LLC; Badger Windpower, LLC; Crystal Lake Wind, LLC; Crystal Lake Wind II, LLC; FPL Energy Burleigh Couty Wind, LLC; FPL Energy Duane Arnold, LLC; FPL Energy Hancock Couty Wind, LLC; FPL Energy Marcus Hook, L.P.; FPL Energy North Dakota Wind, LLC; FPL Energy North Dakota Wind II, LLC; FPL Energy Oliver Wind II, LLC; FPL Energy Point Beach, LLC; FPL Energy Power Marketing, Inc.; Lake Benton Power Partners II, LLC; Langdon Wind, LLC; Logan Wind Energy LLC; Osceola Windpower, LLC; Osceola Windpower II, LLC; Peetz Table Wind Energy, LLC; Story Wind, LLC.

Description: Ashtabula Wind, LLC et al. submits revisions to its MBR schedules to include the tariff provision the Commission has formulated to allow market based rate sellers to sell ancillary services in the Ancillary Services Market.

Filed Date: 01/15/2009.

Accession Number: 20090121-0186.

Comment Date: 5 p.m. Eastern Time on Thursday, February 5, 2009.

Docket Numbers: ER08-1442-001.

Applicants: Flat Ridge Wind Energy, LLC.

Description: Flat Ridge Wind Energy, LLC submits revised tariff pages for its market-based rate wholesale power tariff.

Filed Date: 01/16/2009.

Accession Number: 20090122-0207.

Comment Date: 5 p.m. Eastern Time on Friday, February 6, 2009.

Docket Numbers: ER08-1457-003.

Applicants: PPL Electric Utilities Corporation.

Description: PPL Electric Utilities Corporation submits an errata to the 11/26/08 compliance filing.

Filed Date: 01/16/2009.

Accession Number: 20090122-0206.

Comment Date: 5 p.m. Eastern Time on Friday, February 6, 2009.

Docket Numbers: ER09-15-001.

Applicants: Midwest Independent Transmission System Operator Inc.

Description: Midwest Independent Transmission System Operator, Inc. submits revisions to the Midwest ISO's Open Access Transmission, Energy and Operating Reserve Markets Tariff.

Filed Date: 01/22/2009.

Accession Number: 20090123-0384.

Comment Date: 5 p.m. Eastern Time on Thursday, February 12, 2009.

Docket Numbers: ER09-88-001.

Applicants: Southern Company Services, Inc.

Description: Alabama Power Co et al. (Southern Companies) submits their compliance filing to the Commission's 12/18/08 Order.

Filed Date: 01/21/2009.

Accession Number: 20090126-0212.

Comment Date: 5 p.m. Eastern Time on Wednesday, February 11, 2009.

Docket Numbers: ER09-89-002.

Applicants: Southwest Power Pool, Inc.

Description: Southwest Power Pool, Inc. submits revisions to its Open Access Transmission Tariff incorporating a blank transmission formula rate template for Oklahoma Gas and Electric Company.

Filed Date: 01/16/2009.

Accession Number: 20090121-0120.

Comment Date: 5 p.m. Eastern Time on Friday, February 6, 2009.

Docket Numbers: ER09-162-001.

Applicants: Southwest Power Pool, Inc.

Description: Southwest Power Pool, Inc. submits revised pages to its Open Access Transmission Tariff incorporating a blank transmission formula rate template for Southwestern Public Service Company, etc.

Filed Date: 01/16/2009.

Accession Number: 20090121-0126.

Comment Date: 5 p.m. Eastern Time on Friday, February 6, 2009.

Docket Numbers: ER09-289-001.

Applicants: New York Independent System Operator, Inc.

Description: New York Independent System Operator, Inc. submits a compliance filing to revise the Joint Coordination Agreement between the ISO New England, Inc. and the NYISO filed 11/15/08.

Filed Date: 01/16/2009.

Accession Number: 20090121-0125.

Comment Date: 5 p.m. Eastern Time on Friday, February 6, 2009.

Docket Numbers: ER09-496-001.

Applicants: PJM Interconnection LLC.

Description: PJM Interconnection LLC submits Substitute Service Agreement 2078 that supersedes Service Agreement 2078.

Filed Date: 01/16/2009.

Accession Number: 20090121-0127.

Comment Date: 5 p.m. Eastern Time on Friday, February 6, 2009.

Docket Numbers: ER09-502-000.

Applicants: EDF Development, Inc.

Description: EDF Development, Inc. submits application for acceptance of market based rate tariff, et al.Filed Date: 01/26/2009.

Accession Number: 20090127-0136.

Comment Date: 5 p.m. Eastern Time on Tuesday, February 17, 2009.

Docket Numbers: ER09-549-000.

Applicants: Wisconsin Public Service Corporation.

Description: Wisconsin Public Service Corporation et al. submit Local Balancing Area Operations Coordination Agreement.

Filed Date: 01/16/2009.

Accession Number: 20090121-0119.

Comment Date: 5 p.m. Eastern Time on Friday, February 6, 2009.

Docket Numbers: ER09-550-000.

Applicants: PacifiCorp.

Description: PacifiCorp submits modification 1 to Revised Exhibit to the Amended and Restated AC Intertie Agreement, Substitute First Revised Rate Schedule FERC 368.

Filed Date: 01/16/2009.

Accession Number: 20090121-0121.

Comment Date: 5 p.m. Eastern Time on Friday, February 6, 2009.

Docket Numbers: ER09-551-000.

Applicants: Connecticut Light & Power Company.

Description: The Connecticut Light and Power Company et al. submits Engineering Agreement for Switchyard Design Basis Manual by and between CL&P and GenConn Middletown LLC.

Filed Date: 01/16/2009.

Accession Number: 20090121-0122.

Comment Date: 5 p.m. Eastern Time on Friday, February 6, 2009.

Docket Numbers: ER09-552-000.

Applicants: Goldfinch Capital Management, LP.

Description: Goldfinch Capital Management, LP submits petition for acceptance of initial tariff, waivers and blanket authority.

Filed Date: 01/26/2009.

Accession Number: 20090127-0138.

Comment Date: 5 p.m. Eastern Time on Tuesday, February 17, 2009.

Docket Numbers: ER09-553-000.

Applicants: Vista Energy Marketing, LP.

Description: Vista Energy Marketing, LP submits petition for acceptance of initial tariff, waivers and blanket authority.

Filed Date: 01/26/2009.

Accession Number: 20090127-0137.

Comment Date: 5 p.m. Eastern Time on Tuesday, February 17, 2009.

Docket Numbers: ER09-555-000.

Applicants: Entergy Services, Inc.

Description: Entergy Operating Companies submits proposed revisions to Attachment V of their Open Access Transmission Tariff, FERC Electric Tariff, Third Revised Volume 3.

Filed Date: 01/16/2009.

Accession Number: 20090122-0208.

Comment Date: 5 p.m. Eastern Time on Friday, February 6, 2009.

Docket Numbers: ER09-556-000; ER08-367-003; ER06-615-039.

Applicants: California Independent System Operator Corporation.

Description: California Independent System Operator Corporation submits revisions to the Market Redesign and Technology Upgrade Tariff in compliance with the Commission's 12/4/08 Order.

Filed Date: 01/15/2009.

Accession Number: 20090122-0211.

Comment Date: 5 p.m. Eastern Time on Thursday, February 5, 2009.

Docket Numbers: ER09-557-000.

Applicants: Duke Energy Marketing America, LLC.

Description: Duke Energy Marketing America, LLC submits Notice of Cancellation for their market based rate tariff, FERC Electric Tariff, Original Volume 1, to be effective 3/22/09.

Filed Date: 01/22/2009.

Accession Number: 20090126-0130.

Comment Date: 5 p.m. Eastern Time on Thursday, February 12, 2009.

Docket Numbers: ER09-558-000.

Applicants: PJM Interconnection LLC.

Description: PJM, Interconnection, LLC submits an executed Interconnection Service Agreement with Conectiv Delmarva Generation, LLC.

Filed Date: 01/22/2009.

Accession Number: 20090126-0131.

Comment Date: 5 p.m. Eastern Time on Thursday, February 12, 2009.

Docket Numbers: ER09-559-000.

Applicants: Southern California Edison Company.

Description: Southern California Edison Company submits revisions to its Transmission Owner Tariff, FERC Electric Tariff, Second Revised 6 to update the Transmission Access Charge Balancing Account Adjustment Rate, effective 4/1/09.

Filed Date: 01/21/2009.

Accession Number: 20090126-0156.

Comment Date: 5 p.m. Eastern Time on Wednesday, February 11, 2009.

Docket Numbers: ER09-560-000.

Applicants: Covanta Maine, LLC.

Description: Covanta Maine, LLC submits Notice of Succession notifying FERC of corporate name change to adopt as their own, FERC Electric Tariff of Indect Maine Energy, LLC, First Revised Volume 1 etc.

Filed Date: 01/21/2009.

Accession Number: 20090126-0132.

Comment Date: 5 p.m. Eastern Time on Wednesday, February 11, 2009.

Docket Numbers: ER09-561-000.

Applicants: Midwest Independent Transmission System Operator, Inc.

Description: Midwest Independent Transmission System Operator, Inc. submits public version of its Request to Terminate the Market Participant Agreement between etc.

Filed Date: 01/21/2009.

Accession Number: 20090126-0139.

Comment Date: 5 p.m. Eastern Time on Wednesday, February 11, 2009.

Docket Numbers: ER09-562-000.

Applicants: Duke Energy Carolinas, LLC.

Description: Duke Energy Carolinas, LLC submits revisions to its open access transmission tariff, FERC Electric Tariff, Sixth Revised Volume 4 in accordance with the Commission's Order 890 and 676-C.

Filed Date: 01/16/2009.

Accession Number: 20090126-0133.

Comment Date: 5 p.m. Eastern Time on Friday, February 6, 2009.

Docket Numbers: ER09-563-000.

Applicants: PJM Interconnection, LLC.

Description: PJM Interconnection, LLC submits an executed Interim Interconnection Service Agreement with Virginia Electric and Power Co.

Filed Date: 01/22/2009.

Accession Number: 20090126-0138.

Comment Date: 5 p.m. Eastern Time on Thursday, February 12, 2009.

Docket Numbers: ER09-564-000.

Applicants: PJM Interconnection, LLC.

Description: PJM Interconnection, LLC submits an executed Interconnection Service Agreement with Dayton Power & Light Co.

Filed Date: 01/22/2009.

Accession Number: 20090126-0137.

Comment Date: 5 p.m. Eastern Time on Thursday, February 12, 2009.

Docket Numbers: ER09-565-000.

Applicants: PJM Interconnection, LLC.

Description: PJM Interconnection, LLC submits an executed Interim Interconnection Service Agreement with Virginia Electric and Power Co.

Filed Date: 01/22/2009.

Accession Number: 20090126-0136.

Comment Date: 5 p.m. Eastern Time on Thursday, February 12, 2009.

Docket Numbers: ER09-567-000.

Applicants: Southern California Edison Company, Mountainview Power Company, LLC.

Description: Southern California Edison Company et al. requests approval for Moutainview Power Co, LLC to dispose of its Commission jurisdictional assets to SCE and to acquire and own Mountainview's assets directly etc.

Filed Date: 01/23/2009.

Accession Number: 20090127-0120.

Comment Date: 5 p.m. Eastern Time on Friday, February 13, 2009.

Docket Numbers: ER09-568-000.

Applicants: Southern Company Services, Inc.

Description: Southern Company Services, Inc. submits Service Agreement for Firm Point-To-Point Transmission Service with Topaz Energy Associates, LLC.

Filed Date: 01/26/2009.

Accession Number: 20090127-0162.

Comment Date: 5 p.m. Eastern Time on Tuesday, February 17, 2009.

Docket Numbers: ER09-569-000.

Applicants: Southwest Power Pool, Inc.

Description: Southwest Power Pool, Inc. submits an executed service agreement for Firm Point-To-Point Transmission Service with Kansas Municipal Energy Service.

Filed Date: 01/26/2009.

Accession Number: 20090127-0163.

Comment Date: 5 p.m. Eastern Time on Tuesday, February 17, 2009.

Docket Numbers: ER09-570-000.

Applicants: Public Service Company of New Mexico.

Description: Public Service Co of New Mexico submits a Revised Network Integration Transmission Service Agreement etc with Western Area Power Administration.

Filed Date: 01/26/2009.

Accession Number: 20090127-0161.

Comment Date: 5 p.m. Eastern Time on Tuesday, February 17, 2009.

Docket Numbers: ER09-571-000.

Applicants: Southern California Edison Company.

Description: Southern California Edison Co submits Small Generator Interconnection Agreement and Service Agreement for Wholesale Distribution Service with Ventura Regional Sanitation District.

Filed Date: 01/26/2009.

Accession Number: 20090127-0164.

Comment Date: 5 p.m. Eastern Time on Tuesday, February 17, 2009.

Docket Numbers: ER09-572-000.

Applicants: California Independent System Operator Corporation.

Description: California Independent System Operator Corporation submits petition for waiver of open access same time information system requirements.

Filed Date: 01/23/2009.

Accession Number: 20090127-0314.

Comment Date: 5 p.m. Eastern Time on Friday, February 13, 2009.

Take notice that the Commission received the following open access transmission tariff filings:

Docket Numbers: OA08-50-002.

Applicants: Duke Energy Carolinas, LLC.

Description: Duke Energy Carolinas, LLC submits revisions to its open access transmission tariff, FERC Electric Tariff, Sixth Revised Volume 4 in accordance with the Commission's Order 890 and 676-C.

Filed Date: 01/16/2009.

Accession Number: 20090126-0133.

Comment Date: 5 p.m. Eastern Time on Friday, February 6, 2009.

Docket Numbers: OA09-17-000.

Applicants: California Independent System Operator Corporation.

Description: California Independent System Operator Corporation submits revisions to the CAISO's Market Redesign and Technology Upgrade Tariff, Appendix L, Methodology to Assess Available Transfer Capability etc.

Filed Date: 01/15/2009.

Accession Number: 20090121-0105.

Comment Date: 5 p.m. Eastern Time on Thursday, February 5, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Kimberly D. Bose,
Secretary.

[FR Doc. E9-2425 Filed 2-4-09; 8:45 am]

BILLING CODE 6717-01-P